DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: The American Community Survey.

OMB Control Number: 0607-0810.

Form Number(s): ACS-I, ACS-I(SP), ACS-I(PR), ACS-I(PR)(SP), ACS-I(GQ), ACS-I(PR)(GQ), GQFQ, ACS CATI (HU), ACS CAP I (HU), ACS (HU) Reinterview, GQ Reinterview.

Type of Request: Extension of a currently approved collection.

Burden Hours: 2,337,868.

Number of Respondents: 3,760,000.

Average Hours oer Response: 38 minutes.

Needs and Uses: The U.S. Census Bureau requests continued authorization from the Office of Management and Budget (OMB) to conduct the American Community Survey (ACS). The Census Bureau has developed a methodology to collect and update every year demographic, social, economic, and housing data that are essentially the same as the “long-form” data that the Census Bureau traditionally has collected once a decade as part of the decennial census. Federal and state government agencies use such data to evaluate and manage federal programs and to distribute funding for various programs that include food stamp benefits, transportation dollars, and housing grants. State, county, and community governments, nonprofit organizations, businesses, and the general public use information like housing quality, income distribution, journey-to-work patterns, immigration data, and regional age distributions for decision-making and program evaluation.

In years past, the Census Bureau collected the long-form data only once every ten years, which become out of date over the course of the decade. To provide more timely data, the Census Bureau developed the ACS. The ACS blends the strength of small area estimation with the high quality of current surveys. There is an increasing need for current data describing lower geographic detail. The ACS is now the only source of data available for small-area levels across the Nation and in Puerto Rico. In addition, there is an increased interest in obtaining data for small subpopulations such as groups within the Hispanic, Asian, and American Indian populations, the elderly, and children. The ACS provides current data throughout the decade for small areas and subpopulations.

The ACS began providing up-to-date profiles in 2006 for areas and population groups of 65,000 or more people, providing policymakers, planners, and service providers in the public and private sectors with information every year—not just every ten years. The ACS program will provide estimates annually for all states and for all medium and large cities, counties, and metropolitan areas. For smaller areas and population groups, it took three to five years to accumulate information to provide accurate estimates. The first three-year estimates were released in 2008; the first five-year estimates in 2010. These multiyear estimates will be updated annually.

Using the Master Address File (MAF) from the decennial census that is updated each year, we will select a sample of addresses, mail survey forms each month to a new group of potential households, and attempt to conduct interviews over the telephone with households that have not responded. Upon completion of the telephone follow-up, we will select a sub-sample of the remaining households, which have not responded, typically at a rate of one in three, to designate a household for a personal interview. We will also conduct interviews with a sample of residents at a sample of group quarters (GQ) facilities. Collecting these data from a new sample of housing unit (HU) and GQ facilities every month provides more timely data and lessened respondent burden in the 2010 Census.

We will release a yearly microdata file, similar to the Public Use Microdata Sample file of the Census 2000 long-form records. In addition, we will produce total population summary tabulations similar to the Census 2000 tabulations down to the block group level. The microdata files, tabulated files, and their associated documentation are available through the Internet.

In January 2005, the Census Bureau began full implementation of the ACS in households with a sample of approximately 250,000 addresses per month in the 50 states and the District of Columbia. In addition, we select approximately 3,000 residential addresses per month in Puerto Rico and refer to the survey as the PRCS.

In January 2006, the Census Bureau implemented ACS data collection for the entire national population by including a sample of 20,000 GQ facilities and a sample of 200,000 residents living in GQ facilities in the 50 states and the District of Columbia along with the annual household sample. A sample of 100 GQs and 1,000 GQ residents was also selected for participation in the PRCS.

Starting with the June 2011 mail panel, the Census Bureau increased the annual sample size for the ACS to 3,540,000 households (or 295,000 households per month) in the 50 states and the District of Columbia.

The primary need for continued full implementation of the ACS is to provide comparable data at the census tract and block group level. These data are needed by federal agencies and others to provide assurance of long-form type data availability since the elimination of the long form from the 2010 Census.

State and local governments are becoming more involved in administering and evaluating programs traditionally controlled by the federal government. This devolution of responsibility is often accompanied by federal funding through block grants. The data collected via the ACS will be useful not only to the federal agencies but also to state, local, and tribal governments in planning, administering, and evaluating programs.

The ACS provides more timely data for use in area estimation models that provide estimates of various concepts for small geographic areas. In essence, detailed data from national household and GQ surveys (whose samples are too small to provide reliable estimates for states or localities) can be combined with data from the ACS to create reliable estimates for small geographic areas.

We will also continue to examine the operational issues, research the data quality, collect cost information and make recommendations in the future for this annual data collection. Data users can use information from this survey to help evaluate the ACS program and to give feedback to the Census Bureau to help in our evaluations.

Affected Public: Households or individuals.

Frequency: The ACS is conducted monthly. Respondents are asked to give only a one-time response.

Respondent's Obligation: Mandatory.

Legal Authority: Title 13 U.S.C., Sections 141, 193, and 221.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 17, 2011.
Glenna Mickelson,
Management Analyst, Office of the Chief Information Officer.

[FR Doc. 2011-15652 Filed 6-22-11; 8:45 am]

BILLING CODE 3510-07-P